DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-043210

Applicant: Damian Fagan, Moab, Utah.

Applicant requests a permit for recovery purposes to conduct surveys for the Southwestern Willow Flycatcher (Empidonax traillii extimus) within Utah.

Permit No. TE-043231

Applicant: JBR Environmental Consultants, Inc., Sandy, Utah.

Applicant requests a permit for recovery purposes to conduct surveys for the Southwestern Willow Flycatcher (Empidonax traillii extimus) within Utah, Nevada, Colorado, and California.

Permit No. TE-833868

Applicant: URS Corporation, Tucson, Arizona.

Applicant requests a permit for recovery purposes to conduct surveys for the Southwestern Willow Flycatcher (Empidonax traillii extimus) within Arizona.

Permit No. TE-042958

Applicant: Southwest Research, Boulder, Colorado.

Applicant requests a permit for recovery purposes to conduct surveys for the Southwestern Willow Flycatcher (Empidonax traillii extimus) within Utah.

Permit No. TE-043791

Applicant: Christiana Manville, Littleton, Colorado.

Applicant requests a permit for recovery purposes to conduct surveys for the Southwestern Willow Flycatcher (Empidonax traillii extimus) within Colorado, Arizona and New Mexico.

Permit No. TE-022749

Applicant: Dan Godec, Phoenix, Arizona.

Applicant requests a permit for recovery purposes to conduct surveys for the Southwestern Willow Flycatcher (Empidonax traillii extimus) within Arizona.

Permit No. TE-043941

Applicant: James P. Collins, Tempe, Arizona.

Applicant requests a permit for recovery purposes to conduct surveys for the Sonora tiger salamander (Ambystoma tigrinum stebbinsi) within Utah.

Permit No. TE-021847

Applicant: U.S. Geological Survey, Columbia Environmental Research Center, Columbia, Missouri.

Applicant requests a permit for recovery purposes to conduct surveys for the Desert pupfish (Cyprinodon macularius) within California.

Permit No. TE-043399

Applicant: Eagle Environmental Consulting, Inc., Owasso, Oklahoma.

Applicant requests a permit for recovery purposes to conduct surveys for the American Burying Beetle (Nicrophorus americanus) within Oklahoma.

Permit No. TE-044359

Applicant: Enercon Services, Inc., Oklahoma City, Oklahoma

Applicant requests a permit for recovery purposes to conduct surveys for the American Burying Beetle (Nicrophorus americanus) within Oklahoma.

DATES: Written comments on these permit applications must be received on or before July 30, 2001.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Steve C. Helfert,
Acting Assistant Regional Director, Ecological Services, Region 2, Albuquerque, New Mexico.

[FR Doc. 01-16396 Filed 6-28-01; 8:45 am]

BILLING CODE 4310-55-P